FEDERAL EMERGENCY MANAGEMENT AGENCY

44 CFR Part 67

[Docket No. FEMA-D-7554]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

EFFECTIVE DATE: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street SW., Washington, DC 20472, (202) 646-2878, or (e-mail) Michael.Grimm@fema.gov.

SUPPLEMENTARY INFORMATION: The Federal Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federal implications under Executive Order 12612, Federalism, dated October 26, 1987.

Executive Order 12778, Civil Justice Reform. This proposed rule meets the applicable standards of section 12(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4401 et seq,; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
Florida
Polk County (Unincorporated Areas)
Lake Myrtle No.2 | From the eastern shoreline to the confluence with Peace Creek Drainage Canal | *119 | *120 | City of Lake Wales, Polk County, (Unincorporated Areas).
Polk County (Unincorporated Areas)
Maps available for inspection at the County Engineer Division, 330 West Church Street, Bartow, Florida.
Send Comments to Mr. Jim W. Keene, Polk County Manager, PO Box 9005, Drawer CA01, Bartow Florida 33831.
City of Lake Wales:
Maps available for inspection at the Lake Wales City Administration Building, 201 West Central Avenue, Lake Wales, Florida.
Send comments to Mr. Tony Otte, Lake Wales City Manager, PO Box 1320, Lake Wales, Florida 33859.
Illinois
Sangamon County (Unincorporated Areas)
Fox Creek | At confluence with Polecat Creek | None | *571 | Village of Chatham, Sangamon County (Unincorporated Areas).
| Approximately 1,100 feet upstream of Ptarmigan Drive | None | *587
Jacksonville Branch | At confluence with Spring Creek | *540 | *543 | City of Springfield, Village of Jerome, City of Leland Grove, Sangamon County (Unincorporated Areas).
| Approximately 75 feet upstream of Koke Mill Road | None | *603
Spring Creek | Approximately 1,600 feet downstream of North 8th Street | *528 | *529 | City of Springfield, Sangamon County (Unincorporated Areas).
| Approximately 3,300 feet upstream of South Farmingdale Road | *568 | *569
Polecat Creek | Approximately 2,300 feet upstream of confluence with Lick Creek | None | *563 | Village of Chatham, Sangamon County (Unincorporated Areas), City of Springfield
| Approximately 200 feet upstream of Broaddus Road | None | *601
Jacksonville Branch Tributary | At the confluence with Jacksonville Branch | *569 | *570 | City of Leland Grove, City of Springfield.
| Approximately 500 feet upstream of Wiggins Avenue | *574 | *573
Black Branch | Approximately 2,000 feet downstream of CSX Transportation | None | *541 | Sangamon County (Unincorporated Areas), Village of Rochester.
| At Maxhiemer Road | None | *571
Unnamed Tributary to Lick Creek | Approximately 0.56 mile downstream of Main Street | None | *598 | Sangamon County (Unincorporated Areas), Village of Loami.
| Approximately 200 feet upstream of Center Street | None | *616
Sangamon County (Unincorporated Areas)
Maps available for inspection at the Springfield-Sangamon County Regional Planning Commission, 200 South 9th Street, Room 212, Springfield, Illinois
Send comments to Mr. Andy Van Meter, Chairman of the Sangamon County Board of Commissioners, 200 South 9th Street, Room 201, Springfield, Illinois 62701.
Village of Chatham:
Maps available for inspection at the Chatham Village Hall, 116 East Mulberry Street, Chatham, Illinois or at the Springfield-Sangamon County Regional Planning Commission, 200 South 9th Street, Room 212, Springfield, Illinois.
Send comments to Mr. Tom Gray, Chatham Village, 116 East Mulberry Street, Chatham, Illinois 62629.
Village of Jerome:
Maps available for inspection at the Jerome Village, 2901 Leonard Street, Springfield, Illinois or at the Springfield-Sangamon County Regional Planning Commission, 200 South 9th Street, Room 212, Springfield, Illinois.
Send comments to Mr. Steve Roth, Jerome Village President, 2901 Leonard Street, Springfield, Illinois 62704.
City of Leland Grove:
Maps available for inspection at the Leland Grove City Hall, 2000 Chatham Road, Springfield, Illinois or at the Springfield-Sangamon County Regional Planning Commission, 200 South 9th Street, Room 212, Springfield, Illinois.
Send comments to the Honorable John A. Davis, Mayor of the City of Leland Grove, 2000 Chatham Road, Springfield, Illinois 62704.
Village of Loami:
Maps available for inspection at the Loami Village Hall, 104 South Main Street, Loami, Illinois or at the Springfield-Sangamon County Regional Planning Commission, 200 South 9th Street, Room 212, Springfield, Illinois.
Send comments to the Honorable Richard W. Mowery, Mayor of the Village of Loami, PO Box 226, Loami, Illinois 62661-0226.
Village of Rochester:
Maps available for inspection at the Rochester Village Hall. 1 Community Drive, Rochester, Illinois or at the Springfield-Sangamon County Regional Planning Commission, 200 South 9th Street, Room 212, Springfield, Illinois.
Send comments to the Mr. David Armstrong, Rochester Village President. 1 Community Drive, Rochester, Illinois 62563.
City of Springfield:
Maps available for inspection at the City of Springfield Public Works Department, 300 East Monroe Street, Room 201, Springfield, Illinois or at the Springfield-Sangamon County Regional Planning Commission, 200 South 9th Street, Room 212, Springfield, Illinois.
Send comments to the Honorable Karen Hasara, Mayor of the City of Springfield, 800 East Monroe Street, Springfield, Illinois 62701.
Beaufort County, North Carolina
(Unincorporated Areas)
Pungo River Canal | Approximately 1.5 miles upstream of confluence with Pungo Lake Canal | None | •7 | Beaufort County (Unincorporated Areas).
| Approximately 750 feet downstream of State Route 99 | None | •10 |
Creeping Swamp | Approximately 0.7 mile downstream of State Route 102 | None | •36 | Beaufort County (Unincorporated Areas).
| At the County boundary | None | •47 |
•North American Vertical Datum
Town of Aurora:
Maps available for inspection at the Aurora Town Hall, 295 Main Street, Aurora, North Carolina.
Send comments to The Honorable Joe Hooker, Mayor of the Town of Aurora, PO Box 86, Aurora, North Carolina 27806.
Beaufort County (Unincorporated Areas)
Maps available for inspection at the Beaufort County Building Inspection, 220 North Market Street, Washington, North Carolina.
Send comments to Mr. Donald Davenport, Beaufort County Manager, PO Box 1027, Washington, North Carolina 27889.
City of Washington:
Maps available for inspection at the City of Washington Building Inspection Department, 102 East Second Street, North Carolina.
Send comments to Mr. R.L. Willoughby, Washington City Manager, PO Box 1988, Washington, North Carolina 27889.
North Carolina
Edgecombe County (Unincorporated Areas)
Beaverdam Branch | At the confluence with Cokey Swamp | None | •59 | Edgecombe County (Unincorporated Areas).
| Approximately 0.8 mile upstream of McKendree Church Road | None | •73
Cokey Swamp | Approximately 1,100 feet upstream of Davistown-Mercer Road | None | •57 | Edgecombe County (Unincorporated Areas).
| Approximately 1.1 miles downstream of the confluence with Little Cokey Swamp | None | •77
Corn Creek | At the confluence with Town Creek | None | •61 | Edgecombe County (Unincorporated Areas).
| Approximately 1.2 miles upstream of Temperance Hall Road | None | •104
Deloach Branch | At the confluence with Cokey Swamp | None | •70 | Edgecombe County (Unincorporated Areas).
| Approximately 0.7 mile upstream of the confluence with Cokey Swamp | None | •72
Dickson Branch | At the confluence with Cokey Swamp | None | •73 | Edgecombe County (Unincorporated Areas).
| Approximately 0.8 mile upstream of the confluence with Cokey Swamp | None | •78
Little Cokey Swamp | Approximately 0.4 mile upstream of the confluence with Cokey Swamp | None | •82 | Edgecombe County (Unincorporated Areas).
| Approximately 50 feet downstream of Green Pasture Road | None | •92
Millpond Branch | At the confluence with Cokey Swamp | None | •66 | Edgecombe County (Unincorporated Areas).
| Approximately 0.6 mile upstream of the confluence with Cokey Swamp | None | •70
Otter Creek | Approximately 1,000 feet downstream of the confluence with Otter Creek tributary | None | •47 | Edgecombe County (Unincorporated Areas).
| Approximately 0.7 mile upstream of Lewis Road | None | •91
Otter Creek Tributary | At the County boundary | None | •48 | Edgecombe County (Unincorporated Areas).
| Approximately 2.2 miles upstream of the County boundary | None | •65
Sasnett Mill Branch | At the confluence with Cokey Swamp | None | •70 | Edgecombe County (Unincorporated Areas).
| Approximately 300 feet upstream of Kent Road | None | •64
Town Creek | Approximately 150 feet upstream of State Route 43 | None | •59 | Edgecombe County (Unincorporated Areas).
| Approximately 550 feet upstream of the County boundary | None | •73
Williamson Branch | At the confluence with Town Creek | None | •70 | Edgecombe County (Unincorporated Areas).
| Approximately 2.3 miles upstream of the confluence with Town Creek | None | •82
Buck Swamp | At confluence with Tar River | None | •66 | Edgecombe County (Unincorporated Areas).
| Approximately 1,750 feet upstream of Melton Road | None | •78
Walnut Creek | At confluence with Tar River | None | •60 | Edgecombe County (Unincorporated Areas).
| Approximately 0.7 mile upstream of Alternate Route 64 | None | •68
Tar River | At the Edgecombe County boundary | •33 | •37 | Edgecombe County (Unincorporated Areas).
| At the City of Rocky Mount Extraterritorial Jurisdiction limits | None | •71
Beech Branch | At the confluence with the Tar River | None | •63 | Edgecombe County (Unincorporated Areas).
| At the City of Rocky Mount Extraterritorial Jurisdiction limits | None | •88
Whit Oak Swamp | At confluence with Swift Creek | •62 | •61 | Edgecombe County (Unincorporated Areas).
| Approximately 1.0 mile upstream of Speight's Chapel Road | None | •107
Racoon Branch | At the confluence with Penders Mill Run | None | •70 | Edgecombe County (Unincorporated Areas).
| Approximately 350 feet upstream of CSX Railroad | None | •88
Penders Mill Run | At the confluence with Tar River | None | •53 | Edgecombe County (Unincorporated Areas).
| Approximately 1.4 miles upstream of Taylor Drive | None | •90
Kay Branch | At confluence with Tar River | None | •58 | Edgecombe County (Unincorporated Areas).
| Approximately 1,160 feet upstream of confluence with Tar River | None | •62
Maple Swamp | At confluence with Fishing Creek | •49 | •51 | Edgecombe County (Unincorporated Areas).
| Approximately 760 feet upstream of O'Neal Road | None | •76
Leggett Canal | Approximately 0.5 mile upstream of confluence with Swift Creek | None | •56 | Town of Leggett.
| Approximately 1,525 feet upstream of State Route 30 | None | •69
Tar River Tributary | At confluence with Tar River | •49 | •58 | Edgecombe County (Unincorporated Areas).
| Approximately 1.0 mile downstream of confluence with Tar River | •49 | •50
Holly Creek | Just upstream of confluence with Hendricks Creek | None | •45 | Town of Tarboro.
| Approximately 0.4 mile upstream of U.S. Route 64 | None | •105
Tributary A to Hendricks Creek | Approximately 150 feet upstream of confluence with Hendricks Creek | •50 | •48 | Town of Tarboro.
| At Speight Forest Drive | •78 | •77
Hendricks Creek | At confluence with Tar River | •42 | •45 | Town of Tarboro.
| Approximately 1.06 miles upstream of Industrial Parkway | •74 | •75
East Tarboro Canal | At confluence with Tar River | •43 | •45 | Town of Tarboro.
| Approximately 700 feet upstream of Forest Acres Drive | None | •55
Cheeks Mill Creek | At confluence with Tar River | •33 | •37 | Edgecombe County (Unincorporated Areas).
| Approximately 700 feet downstream of Britt Farm Road | None | •42
Conetoe Creek | Approximately 100 feet downstream of the County boundary | None | •42 | Edgecombe County (Unincorporated Areas).
| Approximately 400 feet upstream of North Bowers Road | None | •76
NC 42 Canal | At confluence with Conetoe Creek | None | •42 | Edgecombe County (Unincorporated Areas), Town of Conetoe.
| Approximately 1,150 feet upstream of Highway 64A | None | •47
Crisp Creek | At confluence with Conetoe Creek | None | • 48 | Edgecombe County (Unincorporated Areas).
| At County boundary | None | • 61
Fountain Fork Creek | At confluence with Conetoe Creek | None | • 57 | Edgecombe County (Unincorporated Areas).
| Approximately 1.0 mile upstream of Route 142 | None | • 73
Moore Swamp | At the confluence with Maple Swamp | None | • 58 | Edgecombe County (Unincorporated Areas).
| Approximately 250 feet downstream of a Draughn Road | None | • 61
Deep Creek | Approximately 0.7 mile upstream of Dickens Road | 54 | • 53 | Edgecombe County (Unincorporated Areas), Town of Speed.
| Approximately 0.6 mile upstream of County boundary | None | • 62
Deep Creek Tributary 2 | At confluence with Deep Creek | None | • 57 | Edgecombe County (Unincorporated Areas).
| Approximately 500 feet downstream of Dickens Road | None | • 60
Savage Mill Run | At the upstream side of CSX Railroad | • 57 | • 58 | Edgecombe County (Unincorporated Areas), Town of Speed.
| Approximately 0.8 mile upstream of Mill Pond Road | None | • 74
Speed Levee Ponding Area | Ponding behind Speed Levee | None | • 51 | Edgecombe County (Unincorporated Areas), Town of Speed.
Princeville Ponding Area | Ponding behind Princeville Levee | None | • 35 | Town of Princeville.
Edgecombe County (Unincorporated Areas)
Maps available for inspection at Edgecombe County (Unincorporated Areas) Planning Department, 201 Saint Andrews Street, Tarboro, North Carolina.
Send comments to Mr. Lorenzo Carmon, Edgecombe County (Unincorporated Areas) Manager, 201 Saint Andrews Street, Tarboro, North Carolina 27866.
Town of Conetoe:
Maps available for inspection at the Conetoe Town Hall, 204 West Church Street, Conetoe, North Carolina.
Send comments to The Honorable Jean Harris, Mayor of the Town of Conetoe, P.O. Box 218, Conetoe, North Carolina 27819.
Town of Leggett:
Maps available for inspection at the Leggett Town Hall, Route 2, Tarboro, North Carolina.
Send comments to The Honorable Charles Corbett, Mayor of the Town of Leggett, Route 2, Box 199A, Tarboro, North Carolina 27886.
Town of Princeville:
Maps available for inspection at the Princeville Town Hall, Planning Office, 310 Mutual Boulevard, Princeton, North Carolina.
Send comments to Mr. Bobby Hopkins, Princeville Town Manager, 310 Mutual Boulevard, Princeton, North Carolina 27886.
Town of Speed:
Maps available for inspection at the Speed Town Hall, 200 Railroad Street, Speed, North Carolina.
Send comments to The Honorable Wilbert Harrison, Mayor of the Town of Speed, P.O. Box 327, Speed, North Carolina 27881.
Town of Tarboro:
Maps available for inspection at the Tarboro Town Hall, Planning Department, 500 Main Street, Tarboro, North Carolina.
Send comments to Mr. Samuel Noble, Tarboro Town Manager, P.O. Box 220, Tarboro, North Carolina 27886.
North Carolina
Franklin County (Unincorporated Areas)
Bear Swamp Creek | Approximately 1,500 feet downstream of Dyking Road | None | •212 | Franklin County (Unincorporated Areas).
| Approximately 2.1 miles upstream of Dyking Road | None | •229
Big Branch Creek | At the confluence with Cedar Creek | None | •193 | Franklin County (Unincorporated Areas).
| Approximately 1 mile upstream of San Horton Road | None | •243
Big Peachtree Creek | At the County boundary | None | •204 | Franklin County (Unincorporated Areas).
| Approximately 1.2 miles upstream of Gardner Road | None | •234
Big Peachtree Creek Tributary | At the confluence with Big Peachtree Creek | None | •208 | Franklin County (Unincorporated Areas).
| Approximately 0.9 mile upstream of the confluence with Big Peachtree Creek | None | •231
Billys Creek | Approximately 1,180 feet upstream of the confluence with the Tar River | None | •226 | Franklin County (Unincorporated Areas).
| Approximately 1.9 miles upstream of the confluence with the Tar River | None | •243
Brandy Creek | At the confluence with Cedar Creek | None | •275 | Franklin County (Unincorporated Areas), Town of Youngsville.
| Approximately 425 feet upstream of Park Avenue | None | •381
Brandy Creek Tributary | At the confluence with Brandy Creek | None | •310 | Franklin County (Unincorporated Areas).
| Approximately 0.7 mile upstream of the confluence with Brandy Creek | None | •333 |
Buffalo Creek South | Approximately 0.5 mile upstream of the confluence with the Tar River | None | •213 | Franklin County (Unincorporated Areas).
| Approximately 2.7 miles upstream of West River Road | None | •247 |
Buffalo Creek | At the confluence with Sandy Creek | None | •271 | Franklin County (Unincorporated Areas).
| Approximately 2.5 miles upstream of U.S. 401 | None | •355 |
Buffalo Creek Tributary 1 | At the confluence with Buffalo Creek | None | •283 | Franklin County (Unincorporated Areas).
| Approximately 700 feet upstream of Tollie Weldon Road | None | •327 |
Camping Creek | At the confluence with Cedar Creek | None | •231 | Franklin County (Unincorporated Areas).
| Approximately 0.7 mile upstream of Hart Road | None | •300 |
Camping Creek Tributary 1 | At the confluence with Camping Creek | None | •264 | Franklin County (Unincorporated Areas).
| Approximately 0.7 mile upstream of the confluence with Camping Creek | None | •286 |
Cedar Creek | Approximately 0.8 mile upstream of the confluence with the Tar River | None | •193 | Franklin County (Unincorporated Areas), Town of Franklinton.
| Approximately 1.1 miles upstream of Pocomoke Road | None | •427 |
Cedar Creek Tributory 1 | At the confluence with Cedar Creek | None | •212 | Franklin County (Unincorporated Areas).
| Approximately 1.5 miles upstream of Bennette Perry Road | None | •252 |
Cedar Creek Tributary 2 | At the confluence with Cedar Creek | None | •269 | Franklin County (Unincorporated Areas).
| Approximately 0.8 mile upstream of Hill Road | None | •338 |
Cedar Creek Tributary 3 | At the Confluence with Cedar Creek | None | •305 | Franklin County (Unincorporated Areas).
| Approximately 0.4 mile downstream of Long Mill Road | None | •380 |
Crooked Creek | Approximately 80 feet downstream of NC 98 | None | •174 | Franklin County (Unincorporated Areas), Town of Bunn.
| Approximately 0.9 mile upstream of Moores Pond Road | None | •375 |
Crooked Creek Tributary 1 | At the confluence with Crooked Creek | None | •193 | Franklin County (Unincorporated Areas), Town of Bunn.
| Approximately 1.4 miles upstream of Pearces Road | None | •241 |
Crooked Creek Tributary 2 | At the confluence with Crooked Creek | None | •234 | Franklin County (Unincorporated Areas).
| Approximately 1.2 miles upstream of the confluence with Crooked Creek | None | •270 |
Crooked Creek Tributary 3 | At the confluence with Crooked Creek | None | •266 | Franklin County (Unincorporated Areas).
| Approximately 0.6 mile upstream of U.S. 401 | None | •330 |
Crooked Creek Tributary 4 | At the confluence with Crooked Creek Tributary 3 | None | •270 | Franklin County (Unincorporated Areas).
| Approximately 0.9 mile upstream of the confluence with Crooked Creek Tributary 3 | None | •325 |
Cypress Creek | At the confluence with the Tar River | None | •171 | Franklin County (Unincorporated Areas).
| Approximately 1.6 miles upstream of NC 56 | None | •260 |
Deer Branch | At the confluence with Sandy Creek | None | *185 | Franklin County (Unincorporated Areas).
| Approximately 1,200 feet upstream of NC 58 | None | •249 |
Devile Cradle Creek | At the confluence with Sandy Creek | None | •251 | Franklin County (Unincorporated Areas).
| Approximately 1.9 miles upstream of NC 39 | None | •379 |
Fishing Creek | Approximately 1,450 feet upstream of NC 561 | None | •165 | Franklin County (Unincorporated Areas).
| Approximately 1.1 miles upstream of NC 561 | None | •166 |
Flatrock Creek | At the confluence with Devils Cradle Creek | None | •264 | Franklin County (Unincorporated Areas).
| Approximately 2.6 miles upstream of Lake View Road | None | •398 |
Fox Creek | Approximately 0.5 mile upstream of NC/56 NC 581 | None | •204 | Franklin County (Unincorporated Areas), Town of Louisburg.
| Approximately 0.9 mile upstream of NC 561 | None | •225 |
Giles Creek | At the confluence with Tooles Creek | None | •238 | Franklin County (Unincorporated Areas).
| Approximately 0.9 mile upstream of the confluence with Tooles Creek | None | •254 |
Jumping Run | Approximately 0.6 mile downstream of East River Road | None | •195 | Franklin County (Unincorporated Areas).
| Approximately 975 feet upstream of East River Road | None | •204 |
Little Shocco Creek | At the confluence with Shocco Creek | None | •206 | Franklin County (Unincorporated Areas).
| Approximately 2.3 miles upstream of Rod Alston Road | None | •258 |
Long Branch | At the confluence with Cypress Creek | None | •236 | Franklin County (Unincorporated Areas).
| Approximately 1.4 miles upstream of the confluence with Cypress Creek | None | •265 |
Lynch Creek | Approximately 0.5 mile downstream of Dyking Road | None | •213 | Franklin County (Unincorporated Areas).
| At the County boundary | None | •332 |
Middle Creek | Approximately 1,200 feet upstream of Green Hill Road | None | •242 | Franklin County (Unincorporated Areas).
| Approximately 1.8 miles upstream of Green Hill Road | None | •257 |
Norris Creek | At the confluence with Crooked Creek | None | •181 | Franklin County (Unincorporated Areas).
| Approximately 450 feet upstream of Bethlehem Church | None | •331 |
Norris Creek Tributary 1 | At the confluence with Norris Creek | None | •197 | Franklin County (Unincorporated Areas).
| Approximately 0.9 mile upstream of Johnson Town Road | None | •237 |
Red Bud Creek | Approximately 1.4 miles downstream of NC 58 | None | •194 | Franklin County (Unincorporated Areas).
| Approximately 4.2 miles upstream of NC 58 | None | •254 |
Sandy Creek | At the downstream County boundary | None | •184 | Franklin County (Unincorporated Areas).
| Approximately 1 mile upstream of Hightower Road | None | •281 |
Sandy Creek Tributary 1 | At the confluence with Sandy Creek | None | •187 | Franklin County (Unincorporated Areas).
| Approximately 1.3 miles upstream of Reed Road | None | •209 |
Sandy Creek Tributary 2 | At the confluence with Sandy Creek | None | •193 | Franklin County (Unincorporated Areas).
| Approximately 0.8 mile upstream of the confluence with Sandy Creek | None | •209 |
Sandy Creek Tributary 3 | At the confluence with Sandy Creek | None | •205 | Franklin County (Unincorporated Areas).
| Approximately 630 feet upstream of Douglas Williams Road | None | •263 |
Sandy Creek Tributary 4 | At the confluence with Sandy Creek Tributrary 3 | None | •207 | Franklin County (Unincorporated Areas).
| Approximately 230 feet upstream of JB Leonard Road | None | •231 |
Sandy Creek Tributary 5 | At the confluence with Sandy Creek | None | •206 | Franklin County (Unincorporated Areas).
| Approximately 1.3 m iles upstream of NC 561 | None | •314 |
Sandy Creek Tributary 6 | At the confluence with Sandy Creek | None | •212 | Franklin County (Unincorporated Areas).
| Approximately 500 feet upstream af Raymond Tharrington Road | None | •257 |
Sandy Creek Tributary 7 | At the confluence with Sandy Creek | None | •236 | Franklin County (Unincorporated Areas).
| Approximately 1.4 miles upstream of Person Road | None | •500 |
Sandy Creek Tributary 8 | At the confluence with Sandy Creek Tributary 7 | None | •248 | Franklin County (Unincorporated Areas).
| Approximately 1.1 miles upstream of the confluence with Sandy Creek Tributary 7 | None | •284 |
Sandy Creek Tributary 9 | At the confluence with Sandy Creek | None | •250 | Franklin County (Unincorporated Areas).
| Approximately 0.4 mile upstream of the confluence with Sandy Creek | None | •251 |
Sandy Creek Tributary 10 | At the confluence with Sandy Creek | None | •265 | Franklin County (Unincorporated Areas).
| Approximately 0.8 mile upstream of the confluence with Sandy Creek | None | •279 |
Sandy Creek Tributary 13 | At the confluence with Sandy Creek | None | •215 | Franklin County (Unincorporated Areas).
| Approximately 0.6 mile upstream of the confluence of Sandy Creek Tributary 15 | None | •270 |
Sandy Creek Tributary 14 | At the confluence with Sandy Creek Tributary 13 | None | •231 | Franklin County (Unincorporated Areas).
| Approximately 1.2 miles upstream of the confluence with Sandy Creek Tributary 13 | None | •277 |
Sandy Creek tributary 15 | At the confluence with Sandy Creek Tributary 13 | None | •262 | Franklin County (Unincorporated Areas).
| Approximately 0.4 mile upstream of the confluence with Sandy Creek Tributary 13 | None | •270 |
Shocco Creek | At the confluence of Fishing Creek | None | •166 | Franklin County (Unincorporated Areas).
| Approximately 4.1 miles upstream of the NC 58 | None | •206 |
Sycamore Creek | Approximately 1,000 feet downstream of East River Road | None | •200 | Franklin County (Unincorporated Areas).
| Approximately 1,400 feet downstream of Ronald Tharrington Road | None | •236 |
Tar River Tributary 1 | Approximately 5000 feet upstream of the confluence with the Tar River | None | •197 | Franklin County (Unincorporated Areas).
| Approximately 0.9 mile upstream of George Leonard Road | None | •209 |
Taylors Creek | Approximately 750 feet upstream of confluence with the Tar River | None | •234 | Franklin County (Unincorporated Areas).
| Approximately 1.6 miles upstream of the confluence with the Tar River | None | •240 |
Tooles Creek | At the confluence with Lynch Creek | None | •213 | Franklin County (Unincorporated Areas).
| Approximately 100 feet downstream of Joe Ward Road | None | •310 |
Wolfpen Branch | Approximately 0.6 mile upstream of the confluence with the Tar River | None | •197 | Franklin County (Unincorporated Areas), Town of Louisburg.
| Approximately 450 feet downstream of of NC 39 | None | •212 |
Franklin County (Unincorporated Areas)
Map available for inspection at the Franklin County GIS Department, 215 East Nash Street, Louisburg, North Carolina.
Send comments to Dr. John Ball, chairman of the Franklin County Board of Commissioners, 113 Market Street, Louisburg, North Carolina 27549.
Town of Bunn:
Map available for inspection at the Bunn Town Hall, 601 Main Street, Bunn, North Carolina.
Send comments to The Honorable Jerry Kenneth, Mayor of the Town of Bunn, P.O. Box 398, Bunn, North Carolina 27508.
Town of Franklinton:
Map available for inspection at the Franklinton Town Hall, 7 West Mason Street, Franklinton, North Carolina.
Send comments to The Honorable J. Larry Kearney, Mayor of the Town of Franklinton, P.O. Box 309, Franklinton, North Carolina 27525.
Town of Louisburg:
Map available for inspection at the Louisburg Town Hall, 110 West Nash Street, Louisburg, North Carolina.
Send comments to The Honorable Karl T. Pernell, Mayor of the Town of Louisburg, 110 West Nash Street, North Carolina 27549.
Town of Youngsville:
Map available for inspection at the Youngsville Town Hall, 118 North Cross Street, Youngsville, North Carolina.
Send comments to The Honorable Samuel K. Hardwick, Mayor of the Town of Youngsville, P.O. Box 109, Youngsville, North Carolina 27596.
North Carolina
Martin County (Unincorporated Areas)
Ross Swamp | At the confluence with Collie Swamp | None | •42 | Martin County (Unincorporated Areas).
| Approximately 1.3 miles upstream of Vanderford Road | None | •61 |
Flat Swamp | At the confluence with Tranters Creek | None | •39 | Martin County (Unincorporated Areas).
| Approximately 1,400 feet upstream of Matthew Road | None | •65 |
Flat Swamp Tributary | At the confluence with Flat Swamp | None | •47 | Town of Robersonville, Martin County (Unincorporated Areas).
Collie Swamp | At the confluence with Tranters Creek | None | •34 | Martin County (Unincorporated Areas).
| Approximately 1.1 miles upstream of the confluence of Huskanaw Swamp | None | •47
Collie Swamp Tributary 1 | At the confluence with Collie Swamp | None | •34 | Martin County (Unincorporated Areas).
| Approximately 1.5 miles upstream of the confluence with Collie Swamp | None | •38
Collie Swamp Tributary 2 | At the confluence with Collie Swamp | None | •34 | Martin County (Unincorporated Areas).
| Approximately 0.7 mile upstream of Race Track Road | None | •39
Collie Swamp Tributary 7 | At the confluence with Collie Swamp Tributary 4 | None | •40 | Martin County (Unincorporated Areas).
| Approximately 0.9 mile upstream of the confluence with Collie Swamp Tributary 4 | None | •47
Collie Swamp Tributary 4 | At the confluence with Collie Swamp | None | •40 | Martin County (Unincorporated Areas).
| Approximately 1.1 miles upstream of the confluence of Collie Swamp Tributary 7 | None | •45
Collie Swamp Tributary 5 | At the confluence with Collie Swamp | None | •41 | Martin County (Unincorporated Areas).
| Approximately 0.9 mile upstream of the confluence with Collie Swamp | None | •45
Collie Swamp Tributary 6 | At the confluence with Collie Swamp | None | •41 | Martin County (Unincorporated Areas).
| Approximately 1.5 miles upstream of the confluence of Collie Swamp | None | •43
Huskanaw Swamp | At the confluence with Collie Swamp | None | •43 | Martin County (Unincorporated Areas).
| Approximately 900 feet upstream of Perkins Road | None | •55
Turkey Swamp | At the confluence of Bear Grass Swamp | None | •31 | Martin County (Unincorporated Areas).
| Approximately 1.0 mile upstream of Jack Robinson Road | None | •43
Turkey Swamp Tributary 1 | At the confluence with Turkey Swamp | None | •34 | Martin County (Unincorporated Areas).
| Approximately 0.7 mile upstream of the confluence with Turkey Swamp | None | •41
Tranters Creek | At the confluence of Bear Grass Swamp | None | •31 | Martin County (Unincorporated Areas).
| At the confluence of Flat Swamp | None | •39
Bear Grass Swamp | At the confluence with Tranters Creek | None | •31 | Martin County (Unincorporated Areas).
| Approximately 0.5 mile upstream of Lee Road | None | •41
Crisp Creek | Approximately 2.9 miles downstream of the confluence of Crisp Creek Tributary | None | •59 | Martin County (Unincorporated Areas).
| Approximately 500 feet upstream of the confluence of Crisp Creek Tributary | None | •70
Martin County (Unincorporated Areas)
Maps available for inspection at the Martin County Building Inspector's Office, 305 East Main Street, Williamston, North Carolina.
Send comments to Mr. Donnie H. Pittman, Martin County Manager, P.O. Box 668, Williamston, North Carolina 27892.
Town of Robersonville:
Maps available for inspection at the Robersonville Town Hall, 114 South Main Street, Robersonville, North Carolina.
Send comments to Mr. John Pritchard, Robersonville Town Manager, P.O. Box 487, Robersonville, North Carolina 27871.
North Carolina
Onslow County (Unincorporated Areas)
Atlantic Ocean | At Intracoastal Waterway and Salliers By confluence | •7 | •8 | Unincorporated Areas of Onslow County.
| Approximately 2,000 feet east of River Drive and New River Inlet Road intersection | •15 | •18
Bachelor's Delight Swamp | At the confluence with New River | None | •9 | Unincorporated Areas of Onslow County.
| Approximately 0.5 mile upstream of the confluence of Bachelor's Delight Swamp Tributary 2 | None | •29
Bachelor's Delight Swamp Tributary 1 | Approximately 0.5 mile upstream of the confluence with Bachelor's Delight Swamp | None | •30 | Unincorporated Areas of Onslow County.
| Approximately 1,150 feet upstream of Timothy Road | None | •34
Bachelor's Delight Swamp Tributary 2 | At the confluence with Bachelor's Delight Swamp | None | •21 | Unincorporated Areas of Onslow County.
| Approximately 1,400 feet upstream of the confluence with Bachelor's Delight Swamp | None | •26
Bear Creek | Approximately 150 feet downstream of NC 173 | None | •9 | Unincorporated Areas of Onslow County.
| Approximately 1.4 miles upstream of NC 172 | None | •31
Bearhead Creek | Approximately 0.8 mile upstream of the confluence with Wallace Creek | •2 | •3 | Unicorporated Areas of Onslow County, City of Jacksonville.
| Approximately 1.3 miles upstream of Holcomb Boulevard | None | •21 |
Bell Swamp | Approximately 800 feet upstream of NC 172 | None | •10 | Unicorporated Areas of Onslow County.
| Approximately 0.5 mile upstream of Hubert Boulevard | None | •32 |
Blue Creek | Approximately 1.4 miles upstream of Richlands Highway | None | •18 | Unicorporated Areas of Onslow County.
| Approximately 300 feet upstream of Pony Farm Road. | None | •44 |
Brick Kiln Branch (at White Oak River) | At the confluence with White Oak River | None | •11 | Unicorporated Areas of Onslow County.
| Approximately 0.5 mile upstream of the confluence with White Oak River | None | •17 |
Cartwheel Branch | At the confluence with Holland Mill Creek | None | •8 | Uicorporated Areas of Onslow County.
| Approximately 125 feet upstream of Swansboro Loop Road | None | •10 |
Chinkapin Branch | At the confluence with White Oak River | None | •38 | Unicorporated Areas of Onslow County.
| Approximately 1.7 miles upstream of the confluence with White Oak River | None | •42 |
Cogdels Creek | Approximately 100 feet upstream of the confluence with New River | •2 | •3 | Unicorporated Areas of Onslow County.
| Approximately 0.5 mile upstream of Sneads Ferry Road | None | •24 |
Cowford Branch | At the confluence with New River | None | •39 | Unicorporated Areas of Onslow County.
| Approximately 0.56 mile upstream of State Route 24 | None | •51 |
Cowhead Creek | Approximately 0.6 mile upstream of the confluence with Frenchs Creek | •2 |  | Unicorporated Areas of Onslow County, City of Jacksonville.
| Approximately 2.5 miles upstream if Sneads Ferry Road | None | •35 |
Cowhorn Swamp | Approximately 950 feet upstream of the confluence with Jenkins Swamp | •31 | •32 | Unicorporated Areas of Onslow County.
| Approximately 0.6 mile upstream of Hoffmann Forest Road | None | •52 |
Deep Run | At the confluence with Southwest Creek | None | •27 | Unicorporated Areas of Onslow County.
| Approximately 0.8 mile upstream of Ben Williams Road | None | •51 |
Freemans Creek | At the confluence with White Oak River | None | •9 | Unicorporated Areas of Onslow County.
| Approximately 0.7 mile upstream of the confluence with White Oak River | None | •9 |
Frenchs Creek | At the confluence of Jumping Run | •2 | •3 | Unicorporated Areas of Onslow County, City of Jacksonville.
| Approximately 0.6 mile upstream of Marine Road | None | •16 |
Gibson Branch | At the confluence of White Oak River | None | •24 | Unicorporated Areas of Onslow County.
| Approximately 1.1 miles upstream of White Oak River Road | None | •41 |
Grants Creek | At the confluence of White Oak River | None | •9 | Unicorporated Areas of Onslow County.
| Approximately 700 feet upstream of the confluence of Halls Branch (Cummins Creek) | None | •14 |
Half Moon Creek | At the confluence with New River | None | •9 | Unicorporated Areas of Onslow County, City of Jacksonville.
| Approximately 1.3 miles upstream of Ramsey Road | None | •44 |
Half Moon Creek Tributary 1 | At the confluence with Half Moon Creek | None | •24 | Unicorporated Areas of Onslow County.
| Approximately 1.830 feet upstream of the confluence with Half Moon Creek | None | •28 |
Hargetts Creek | Approximately 1.4 miles upstream of the confluence with White Oak River | None | •9 | Unicorporated Areas of Onslow County.
| Approximately 1,100 feet downstream of Sloan Farm Road | None | •15 |
Harris Creek | At the confluence with Southwest Creek | None | •24 | Unicorporated Areas of Onslow County.
| Approximately 1,900 feet upstream of Harris Creek Road | None | •42 |
Harris Creek Tributary 1 | At the confluence with Harris Creek | None | •32 | Unicorporated Areas of Onslow County.
| Approximately 500 feet upstream of Burgaw Highway | None | •39 |
Haws Run | At the confluence with Southwest Creek | None | •18 | Unicorporated Areas of Onslow County.
| Approximately 1.0 mile upstream of Haws Run Road | None | •40 |
Haws Run Tributary 1 | At the confluence with Haws Run | None | •23 | Unicorporated Areas of Onslow County.
| Approximately 1,000 feet upstream of the confluence with Haws Run | None | •23 |
Haws Run Tributary 2 | At the confluence with Haws Run | None | •27 | Unicorporated Areas of Onslow County.
| Approximately 200 feet upstream of Harris Creek Road | None | •33 |
Hicks Run | At the confluence with Southwest Creek | •2 | •6 | Unincorporated Areas of Onslow County, City of Jacksonville.
| Approximately 0.9 mile upstream of High Hill Road | None | •46 |
Holand Mill Creek | Approximately 1.9 miles upstream of the confluence with White Oak River | None | •8 | Unincorporated Areas of Onslow County.
| Approximately 1,250 feet upstream of Belgrade Swansboro Road | None | •21 |
Horse Swamp | At the confluence with Little Northeast Creek | None | •14 | Unincorporated Areas of Onslow County.
| Approximately 1.4 miles upstream of Rockey Run Road | None | •36 |
Jenkins Swamp | At the confluence with New River | •25 | •24 | Unincorporated Areas of Onslow County.
| Approximately 0.4 mile upstream of SR1003 Comfort Road | None | •55 |
Jumping Run | At the confluence with Frenchs Creek | •2 | •3 | Unincorporated Areas of Onslow County, City of Jacksonville.
| Approximately 1.2 miles upstream of Sneads Ferry Road | None | •26 |
Little Northeast Creek | At the confluence with Northeast Creek | None | •2 | Unincorporated Areas of Onslow County, City of Jacksonville.
| Approximately 3.0 miles upstream of the confluence with Horse Swamp | None | •28 |
Mill Run | At the confluence with Southwest Creek | •2 | •3 | Unincorporated Areas of Onslow County.
| Approximately 2.3 miles upstream of Verona Road | None | •37 |
Mill Swamp | At the confluence with New River | •25 | •24 | Unincorporated Areas of Onslow County, Town of Richards.
| Approximately 1,000 feet upstream of North Wilmington Street | None | •35 |
New River | Approximately 0.4 mile upstream of the confluence with Blue Creek | None | •7 | Unincorporated Areas of Onslow County, City of Jacksonville.
| Approximately 0.5 mile upstream of State Route 1235 | None | •73 |
New River Tributary 1 | At the confluence with New River | None | •50 | Unincorporated Areas of Onslow County.
| Approximately 50 feet upstream of A 1 Taylor Road | None | •74 |
New River Tributary 2 | At the confluence with New River | None | •9 | Unincorporated Areas of Onslow County.
| Approximately 1.1 mile upstream of Richlands Highway | None | •45 |
New River Tributary 3 | At the confluence with New River Tributary 2 | None | •16 | Unincorporated Areas of Onslow County.
| Approximately 1.0 mile upstream of the confluence with New River Tributary 2 | None | •33 |
New River Tributary 4 | At the confluence with New River | None | •19 | Unincorporated Areas of Onslow County.
| Approximately 150 feet upstream of Richlands Highway | None | •44 |
New River Tributary 5 | At the confluence with New River | None | •22 | Unincorporated Areas of Onslow County.
| Approximately 0.4 mile upstream of Duffy Field Road | None | •42 |
New River Tributary 6 | At the confluence with New River Tributary 5 | None | •25 | Unincorporated Areas of Onslow County.
| Approximately 1,700 feet upstream of the confluence with New River Tributary 5 | None | •27
New River Tributary 7 | At the confluence with New River Tributary 5 | None | •26 | Unincorporated Areas of Onslow County.
| Approximately 1.7 miles upstream of the confluence with New River Tributary 5 | None | •44 |
North Branch at Lauradale Subdivision | At the confluence with New River | None | •9 | Unincorporated Areas of Onslow County.
| Approximately 0.7 mile upstream of the confluence with New River | None | •9 |
Northeast Creek | At the confluence of Little Northeast Creek | None | •2 | Unincorporated Areas of Onslow County, City of Jacksonville.
| Approximately 0.6 mile upstream of North Marine Boulevard | None | •27 |
Northeast Creek Tributary 1 | At the confluence with Northeast Creek | None | •0 | City of Jacksonville.
| Approximately 0.4 mile upstream of the confluence with Northeast Creek | None | •10 |
Northeast Creek Tributary 2 | At the confluence with Northeast Creek | None | •7 | City of Jacksonville.
| Approximately 0.6 mile upstream of the confluence with Northeast Creek | None | •9 |
Parrot Swamp | Approximately 1,850 feet upstream of Queens Creek Road | •9 | •10 | Unincorporated Areas of Onslow County.
| Approximately 1.0 mile upstream of Queens Creek Road | None | •20 |
Poplar Creek | At the confluence with Little Northeast Creek | None | •3 | Unincorporated Areas of Onslow County, City of Jacksonville.
| Approximately 0.4 mile upstream of Waters Road | None | •26 |
Queen Creek | Approximately 1.2 miles upstream of NC 24 | None | •10 | Unincorporated Areas of Onslow County.
| Approximately 0.5 mile upstream of Camp Lejeune Railroad | None | •25 |
Rocky Run | At confluence with Little Northeast Creek | None | •8 | Unincorporated Area of Onslow County.
| Approximately 1,400 feet upstream of confluence with Little Northeaster | None | •13
South Branch at Lauderdale Subdivision | At the confluence with North Branch at Lauderdale Subdivision | None | •9 | Unincorporated Areas of Onslow County, City of Jacksonville.
| Approximately 1.0 mile upstream of the confluence with North Branch at Lauderdale Subdivision | None | •36
Southwest Creek | Approximately 2.5 miles upstream of the confluence with New River | •2 | •3 | Unincorporated Areas of Onslow County, City of Jacksonville.
| Approximately 0.6 mile upstream of Five Mile Road | None | •65
Southwest Creek Tributary 2 | At the confluence with Southwest Creek | None | •46 | Unincorporated Areas of Onslow County.
| Approximately 1.2 miles upstream of Red Lane | None | •56
Southwest Creek Tributary 3 | At the confluence with Southwest Creek | None | •54 | Unincorporated Areas of Onslow County.
| Approximately 1.7 miles upstream of the confluence with Southwest Creek | None | •68
Southwest Creek Tributary 4 | At the confluence with Southwest Creek Tributary 3 | None | •61 | Unincorporated Areas of Onslow County.
| Approximately 1,700 feet upstream of Five Mile Road | None | •70
Starkys Creek | At confluence with White Oak River | None | •10 | Unincorporated Areas of Onslow County.
| Approximately 1,750 feet upstream of 1-17 | None | •44
Stump Sound | At the intersection of Chadwick Acres Road and Carroll Street | •6 | •8 | Unincorporated Areas of Onslow County.
| Approximately 1,000 feet south of the intersection of Harbor Point Road and Ocracoke Road | •7 | •11
Wallace Creek | At the upstream side of Norfolk Southern Railway | •2 | •3 | Unincorporated Areas of Onslow County.
| Approximately 4.2 miles upstream of Holcomb Boulevard | None | •22
Wallace Creek Tributary 1 | At the confluence with Wallace Creek | None | •14 | Unincorporated Areas of Onslow County.
| Approximately 500 feet downstream of Lejeune Boulevard | None | •27
Webb Creek | At the confluence with White Oak River | None | •9 | Unincorporated Areas of Onslow County.
| Approximately 1,200 feet downstream of Parkertown Road | None | •20
White Oak River | Approximately 500 feet upstream of the confluence of Webb Creek | None | •9 | Unincorporated Areas of Onslow County.
| At upstream the confluence of Chinkapin Branch | None | •50
Wolf Swamp | At North Marine Boulevard | None | •22 | Unincorporated Areas of Onslow County, City of Jacksonville.
| Approximately 0.9 mile upstream of Ramsey Road | None | •42
Onslow County (Unincorporated Areas)
Maps available for inspect at the Onslow County Flood plain Administration, 604 College Street, Jacksonville, North Carolina 28540.
Send comments to Mr. Ron Lewis, Onslow County Manager, 118 Old Bridge Street, Jacksonville, North Carolina 28540.
City of Jacksonville:
Maps available for inspection at Jacksonville City Hall, 211 Johnson Boulevard, Jacksonville, North Carolina 28541.
Send comments to The Honorable George Jones, Mayor of the City of Jacksonville, P.O. Box 128, Jacksonville, North Carolina 28541.
Town of Richlands:
Maps available for inspection at Richlands Town Hall, 106 North Wilmington Street, Jacksonville, North Carolina 28540.
Send comments to Mr. Greg Whitehead, Town of Richlands Administrator, P.O. Box 245, Richlands, North Carolina 28574.
North Carolina
Vance County (Unincorporated Areas)
Buffalo Creek (North) | At the confluence with Tar River | •222 | •228 | Vance County (Unincorporated Areas).
| Approximately 2.3 miles upstream of Dick Smith Road | None | •226
Cattail Creek | At the confluence with Sandy Creek | None | •329 | Vance County (Unincorporated Areas).
| Approximately 1.1 miles upstream of the confluence with Dickies Creek | None | •352
Dickies Creek | At the confluence with Sandy Creek | None | •315 | Vance County (Unincorporated Areas).
| Approximately 0.4 mile upstream of the confluence with Sandy Creek | None | •320
Joes Branch | At the confluence with Ruin Creek | None | •296 | Vance County (Unincorporated Areas).
| Approximately 1.2 miles upstream of Old Country Road | None | •396
Long Creek | At the confluence with Tabbs Creek | None | •237 | Vance County (Unincorporated Areas).
| Approximately 1.1 miles upstream of Kittrell College Road | None | •291
Lynch Creek | At the Franklin/Vance County boundary | None | •333 | Vance County (Unincorporated Areas).
| Approximately 0.3 mile upstream of Gillburg Road | None | •347 |
Martin Creek | At the influence with Sandy Creek | None | •343 | Vance County (Unincorporated Areas).
| Approximately 3.0 miles upstream of confluence with Sandy Creek | None | •429 |
Red Bud Creek | At the influence with Ruin Creek | None | •311 | Vance County (Unincorporated Areas), City of Henderson.
| Approximately 1.8 miles upstream of the confluence of Red Bud Creek Tributary | None | •362 |
Red Bud Creek Tributary 1 | At the confluence with Red Bud Creek | None | •313 | Vance County (Unincorporated Areas).
| Approximately 1.8 miles upstream of the confluence with Red Bud Creek | None | •375 |
Ruin Creek | At the confluence with Tabbs Creek | None | •261 | Vance County (Unincorporated Areas).
| Approximately 1.7 miles upstream of the confluence of Red Bud Creek | None | •344 |
Sandy Creek | Approximately 0.5 miles downstream of the confluence of Weaver Creek | None | •298 |
| Approximately 900 feet upstream of Highway 1 | None | •448 |
Sandy Creek Tributary 11 | At the confluence with Sandy Creek | None | •403 | Vance County (Unincorporated Areas), City of Henderson.
| Approximately 700 feet upstream of Route 1 | None | •421 |
Sandy Creek Tributary 12 | At the confluence with Sandy Creek Tributary 11 | None | •415 | City of Henderson.
| Approximately 0.4 miles upstream of the confluence of Sandy Creek Tributary 11 | None | •424 |
Tabbs Creek | Approximately 2.0 miles upstream of the confluence of Tar River | None | •237 |
| Approximately 625 feet upstream of Old Watkins Road | None | •285 |
Weaver Creek | At the confluence with with Sandy Creek | None | •309 | Vance County (Unincorporated Areas).
| Approximately 0.5 mile upstream of Vickslow Road | None | •349 |
Tar River | At the Franklin/Vance County boundary | •222 | •228 | Vance County (Unicorporated Areas).
| Approximately 800 feet upstream of Green Hill Road | None | •245 |
Fishing Creek | At the Vance/Warren County boundary | None | •345 | Vance County (Unincorporated Areas).
| Approximately 0.77 mile upstream of the County boundary | None | •356 |
Vance County (Unincorporated Areas)
Maps available for inspection at the Vance County Code Enforcement and Planning Department, 122 Young Street, Suite B, Henderson, North Carolina.
Send comments to Mr. J. Timothy Program, Chairman of the Vance County Board of Commissioners, 122 Young Street, Suite B, Henderson, North Carolina 27536.
City of Henderson:
Maps available for inspection at the Henderson City Hall, 180 South Beckford Drive, Henderson, North Carolina.
Send comments to The Honorable Robert G. Young, Jr., Mayor of the City of Henderson, P.O. Box 1434, Henderson, North Carolina 27536.

(Catalog of Federal Domestic Assistance No. 83.100, “Flood Insurance”)
Dated: February 3, 2003.
Anthony S. Lowe,
Administrator, Federal Insurance and Mitigation Administration.

[FR Doc. 03-3334 Filed 2-10-03; 8:45 am]

BILLING CODE 6718-04-M